DEPARTMENT OF ENERGY

Federal Energy Regulatory Commission

Combined Notice of Filings #1

December 13, 2010.

Take notice that the Commission received the following exempt wholesale generator filings:

Docket Numbers: EG11-33-000.

Applicants: Windstar Energy, LLC.

Description: Self-Certification of EG of Windstar Energy, LLC.

Filed Date: 12/10/2010.

Accession Number: 20101210-5214

Comment Date: 5 p.m. Eastern Time on Monday, January 3, 2011.

Take notice that the Commission received the following electric rate filings:

Docket Numbers: ER10-2295-000.

Applicants: WSPP Inc.

Description: Response to October 26, 2010, Request for Additional Information.

Filed Date: 12/10/2010.

Accession Number: 20101210-5225.

Comment Date: 5 p.m. Eastern Time on Monday, January 3, 2011.

Docket Numbers: ER10-2626-001.

Applicants: TEC Trading, Inc.

Description: TEC Trading, Inc. submits tariff filing per 35: Tec Trading, Inc. Compliance Filing to be effective 9/14/2010.

Filed Date: 12/10/2010.

Accession Number: 20101210-5136.

Comment Date: 5 p.m. Eastern Time on Monday, January 3, 2011.

Docket Numbers: ER10-2786-004.

Applicants: Washington Gas Energy Services, Inc.

Description: Washington Gas Energy Services, Inc. submits tariff filing per 35: Washington Gas Energy Services Tariff to be effective 12/12/2010.

Filed Date: 12/13/2010.

Accession Number: 20101213-5001.

Comment Date: 5 p.m. Eastern Time on Monday, January 3, 2011.

Docket Numbers: ER10-3092-001; ER10-2989-001; ER10-2991-001; ER10-2993-001.

Applicants: Solios Power LLC, Solios Power Mid-Atlantic Trading LLC, Solios Power Midwest Trading LLC, Solios Power Trading LLC.

Description: Solios Entities submits Notice of Change in Status.

Filed Date: 12/13/2010.

Accession Number: 20101213-5063.

Comment Date: 5 p.m. Eastern Time on Monday, January 3, 2011.

Docket Numbers: ER11-21-001.

Applicants: Consolidated Edison Company of New York.

Description: Consolidated Edison Company of New York, Inc. submits tariff filing per 35: Correction of Compliance Filing to be effective 12/2/2010.

Filed Date: 12/02/2010.

Accession Number: 20101202-5119.

Comment Date: 5 p.m. Eastern Time on Thursday, December 23, 2010.

Docket Numbers: ER11-1870-001.

Applicants: Consolidated Edison Company of New York, Inc.

Description: Consolidated Edison Company of New York, Inc. submits tariff filing per 35.17(b): Amendment and deferral of DR filing to be effective 12/31/9998.

Filed Date: 12/10/2010.

Accession Number: 20101210-5233.

Comment Date: 5 p.m. Eastern Time on Monday, January 3, 2011.

Docket Numbers: ER11-2334-003.

Applicants: Midwest Independent Transmission System Operator, Inc.

Description: Midwest Independent Transmission System Operator, Inc. submits tariff filing per 35.17(b): (4) ATC Notice of Succession to be effective 2/9/2011.

Filed Date: 12/10/2010.

Accession Number: 20101210-5179.

Comment Date: 5 p.m. Eastern Time on Monday, January 3, 2011.

Docket Numbers: ER11-2334-004.

Applicants: Midwest Independent Transmission System Operator, Inc.

Description: Midwest Independent Transmission System Operator, Inc. submits tariff filing per 35.17(b): (5) ATC Notice of Succession to be effective 2/9/2011.

Filed Date: 12/10/2010.

Accession Number: 20101210-5198.

Comment Date: 5 p.m. Eastern Time on Monday, January 3, 2011.

Docket Numbers: ER11-2334-005.

Applicants: Midwest Independent Transmission System Operator, Inc.

Description: Midwest Independent Transmission System Operator, Inc. submits tariff filing per 35.17(b): (6) ATC Notice of Succession to be effective 2/9/2011.

Filed Date: 12/10/2010.

Accession Number: 20101210-5222.

Comment Date: 5 p.m. Eastern Time on Monday, January 3, 2011.

Docket Numbers: ER11-2338-000.

Applicants: Cianbro Energy, LLC.

Description: Cianbro Energy, LLC submits tariff filing per 35.1: FERC Electric Tariff to be effective 12/10/2010.

Filed Date: 12/10/2010.

Accession Number: 20101210-5216.

Comment Date: 5 p.m. Eastern Time on Monday, January 3, 2011.

Docket Numbers: ER11-2339-000.

Applicants: Corinth Energy, LLC.

Description: Corinth Energy, LLC submits tariff filing per 35.1: FERC Electric Tariff to be effective 12/10/2010.

Filed Date: 12/10/2010.

Accession Number: 20101210-5217.

Comment Date: 5 p.m. Eastern Time on Monday, January 3, 2011.

Docket Numbers: ER11-2340-000.

Applicants: Dennis Energy Company

Description: Dennis Energy Company submits tariff filing per 35.1: FERC Electric Tariff to be effective 12/10/2010.

Filed Date: 12/10/2010.

Accession Number: 20101210-5218.

Comment Date: 5 p.m. Eastern Time on Monday, January 3, 2011.

Docket Numbers: ER11-2341-000.

Applicants: East Avenue Energy, LLC.

Description: East Avenue Energy, LLC submits tariff filing per 35.1: FERC Electric Tariff to be effective 12/10/2010.

Filed Date: 12/10/2010.

Accession Number: 20101210-5219.

Comment Date: 5 p.m. Eastern Time on Monday, January 3, 2011.

Docket Numbers: ER11-2343-000.

Applicants: Mid-Continent Area Power Pool.

Description: Request of Mid-Continent Area Power Pool for waiver of requirements to revise tariff to implement MOD Reliability Standards.

Filed Date: 12/10/2010.

Accession Number: 20101210-5209.

Comment Date: 5 p.m. Eastern Time on Monday, January 3, 2011.

Docket Numbers: ER11-2344-000.

Applicants: Florida Power Corporation.

Description: Florida Power Corporation submits tariff filing per 35.13(a)(2)(iii: Rate Schedule No. 193 of Florida Power Corporation to be effective 1/1/2011.

Filed Date: 12/13/2010.

Accession Number: 20101213-5033.

Comment Date: 5 p.m. Eastern Time on Monday, January 3, 2011.

Docket Numbers: ER11-2345-000.

Applicants: Southwest Power Pool, Inc.

Description: Southwest Power Pool, Inc. submits tariff filing per 35.13(a)(2)(iii: Formula Update—KCPL, KCPL-GMO to be effective 7/26/2010.

Filed Date: 12/13/2010.

Accession Number: 20101213-5080.

Comment Date: 5 p.m. Eastern Time on Monday, January 3, 2011.

Docket Numbers: ER11-2346-000.

Applicants: Florida Power Corporation.

Description: Florida Power Corporation submits tariff filing per 35.13(a)(2)(iii: Rate Schedule No. 106 of Florida Power Corporation to be effective 12/31/2010.

Filed Date: 12/13/2010.

Accession Number: 20101213-5081.

Comment Date: 5 p.m. Eastern Time on Monday, January 3, 2011.

Docket Numbers: ER11-2347-000.

Applicants: CornerStone Power Develo p.m.ent, LLC.

Description: Notice of Cancellation of Market-Based Rate Tariff in ER10-854, Motion for Expedited Action, and Request for Shortened Comment Period of CornerStone Power Develo p.m.ent, LLC.

Filed Date: 12/13/2010.

Accession Number: 20101213-5145.

Comment Date: 5 p.m. Eastern Time on Monday, December 27, 2010.

Docket Numbers: ER11-2348-000.

Applicants: ISO New England Inc.

Description: Resource Termination Filing CL&P.

Filed Date: 12/13/2010.

Accession Number: 20101213-5146.

Comment Date: 5 p.m. Eastern Time on Monday, January 3, 2011.

Docket Numbers: ER11-2349-000.

Applicants: ISO New England Inc.

Description: Resource Termination Filing EnerNOC.

Filed Date: 12/13/2010.

Accession Number: 20101213-5147.

Comment Date: 5 p.m. Eastern Time on Monday, January 3, 2011.

Docket Numbers: ER11-2350-000.

Applicants: Midwest Independent Transmission System Operator, Inc.

Description: Midwest Independent Transmission System Operator, Inc. submits tariff filing per 35.13(a)(2)(iii: 12-13-10 Schedule 1 Revisions to be effective 1/1/2011.

Filed Date: 12/13/2010.

Accession Number: 20101213-5155.

Comment Date: 5 p.m. Eastern Time on Monday, January 3, 2011.

Docket Numbers: ER11-2351-000.

Applicants: WSPP Inc.

Description: WSPP Inc. submits tariff filing per 35.13(a)(2)(iii: Incorporation of Rate Schedules into WSPP Agreement to be effective 10/1/2010.

Filed Date: 12/13/2010.

Accession Number: 20101213-5167.

Comment Date: 5 p.m. Eastern Time on Monday, January 3, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov or call (866) 208-3676 (toll free). For TTY, call (202) 502-8659.

Kimberly D. Bose,
Secretary.

[FR Doc. 2011-527 Filed 1-12-11; 8:45 am]

BILLING CODE 6717-01-P